DEPARTMENT OF TRANSPORTATION

Federal Aviation Administration

Drone Advisory Committee (DAC); Notice of Public Meeting

AGENCY: Federal Aviation Administration, Department of Transportation.

ACTION: Notice of public meeting.

SUMMARY: This notice announces a meeting of the Drone Advisory Committee (DAC).

DATES: The meeting will be held on February 27, 2020, from 9:00 a.m. to 4:00 p.m. Eastern Time.

Requests to attend the meeting must be received by February 20, 2020.

Requests for accommodations to a disability must be received by February 14, 2020.

Requests to submit written materials to be provided to the committee prior to the meeting must be received no later than February 20, 2020.

ADDRESSES: The meeting will be held at the National Transportation Safety Board Boardroom and Conference Center located at 420 10th Street SW, Washington, DC 20594. Members of the public who wish to attend, must register by emailing DACmeetingRSVP@faa.gov. General committee information including copies of the meeting minutes will be available on the DAC internet website at https://www.faa.gov/uas/programs_partnerships/drone_advisory_committee/.

FOR FURTHER INFORMATION CONTACT: Gary Kolb, UAS Stakeholder & Committee Liaison, Federal Aviation Administration, U.S. Department of Transportation, at gary.kolb@faa.gov or 202-267-4441. Any committee related request should be sent to the person listed in this section.

SUPPLEMENTARY INFORMATION:

I. Background

The DAC was created under the Federal Advisory Committee Act (FACA), in accordance with Title 5 of the United States Code (5 U.S.C. App. 2) to provide the FAA with advice on key UAS integration issues by helping to identify challenges and prioritize improvements.

II. Agenda

At the meeting, the agenda will cover the following topics

• Official Statement of the Designated Federal Officer

• Approval of the Agenda and Minutes

• Opening Remarks

• FAA Update

• Industry-Led Technical Topics

• New Business/Agenda Topics

• Closing Remarks

• Adjourn

A detailed agenda will be posted on the DAC internet website at https://www.faa.gov/uas/programs_partnerships/drone_advisory_committee/ one week in advance of the meeting.

III. Public Participation

The meeting will be open to the public on a first-come, first served basis, as space is limited. Members of the public who wish to attend in person must RSVP by emailing DACmeetingRSVP@faa.gov with your name and affiliation.

The U.S. Department of Transportation is committed to providing equal access to this meeting for all participants. If you need alternative formats or services because of a disability, such as sign language, interpretation, or other ancillary aids, please contact the person listed in the FOR FURTHER INFORMATION CONTACT section.

The FAA is not accepting oral presentations at this meeting due to time constraints. The public may present written statements to the committee at any time. Written statements submitted by February 20, 2020, will be provided to DAC members before the meeting. Any member of the public may present a written statement to the committee at any time.

Issued in Washington, DC, on February 4, 2020.
Erik W. Amend,
Manager, Executive Office, AUS-10, Federal Aviation Administration.

[FR Doc. 2020-02599 Filed 2-10-20; 8:45 am]

BILLING CODE 4910-13-P